DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App., the United States Department of Agriculture announces a meeting of the National Agricultural Research, Extension, Education, and Economics Advisory Board.

DATES: The National Agricultural Research, Extension, Education, and Economics Advisory Board will meet on March 24-26, 2003.

The public may file written comments before or up to two weeks after the meeting with the contact person.

ADDRESSES: On March 24 and 25, 2003, the meeting will take place at the Phoenix Park Hotel, 20 North Capitol Street, NW., Washington, DC 20001. On March 26, 2003, the meeting will occur at the United States Department of Agriculture, National Agricultural Statistics Service (NASS), located at the South Building, 5th Floor, 4th Wing, 1400 Independence Avenue, SW., Washington, DC 20250.

Written comments from the public may be sent to the Contact Person identified in this notice at: The National Agricultural Research, Extension, Education, and Economics Advisory Board; Research, Education, and Economics Advisory Board Office, Room 344-A, Jamie L. Whitten Building, United States Department of Agriculture, STOP 2255, 1400 Independence Avenue, SW., Washington, DC 20250-2255.

FOR FURTHER INFORMATION CONTACT: Deborah Hanfman, Executive Director, National Agricultural Research, Extension, Education, and Economics Advisory Board; telephone: (202) 720-3684; fax: (202) 720-6199; or e-mail: dhanfman@reeusda.gov.

SUPPLEMENTARY INFORMATION: On Monday, March 24, 2003, the National Agricultural Research, Extension, Education, and Economics Advisory Board will hold a general meeting at The Phoenix Park Hotel (Phoenix Park Ballroom). In the morning, starting at 8:30 a.m., you will hear welcome remarks from the Advisory Board Chair and the USDA Under Secretary for Research, Education, & Economics (REE). Starting at 9 a.m., the Advisory Board will conduct its general business with a special Agricultural Research Service (ARS) Update on the Peer Review Process of National Intramural Research Programs by an ARS Official. A special focus session follows at 10 a.m. that recaps Board Recommendations to the Secretary during the current Administration. A Working Lunch follows with a panel of invited congressional staff who will discuss agricultural research issues. At 1:30 p.m., the Board will convene with a special focus session on REE Relevance and Adequacy of Funding. Invited speakers for this session include the REE Budget Coordinator, and the chair of the “Committee on Opportunities in Agriculture” that conducted the study of the REE mission area under the auspices of the National Academy of Sciences. At 4 p.m., the Board will begin breakout groups to address topics related to REE relevance and adequacy of funding. From 7 to 9 p.m. in The Phoenix Park Hotel, a working dinner will be held for the Board and meeting attendees and include a guest speaker. The public is responsible for its own meals.

On Tuesday, March 25, 2003, the Advisory Board will continue with the focus session breakout groups on the “Relevance and Adequacy of Funding Review”. At 1:30 p.m., breakout groups will reconvene, report to the full Board on their respective findings and come to closure on recommendations.

On Wednesday, March 26, 2003, the Advisory Board meeting will be held at USDA's National Agricultural Statistics Service (NASS) facility, which is located at 1400 Independence Avenue SW., Washington, DC 20036 (South Building, 5th Floor, 4th Wing). NASS will conduct the program and highlight their key activities.

The Advisory Board Meeting will adjourn on Wednesday, March 26, 2003, at 11:30 a.m. Opportunities for public comment will be available on March 24 around 11:45 a.m., March 25 around 4:30 p.m., and March 26 prior to the 11:30 a.m. adjournment. Also, written comments for the public record will be welcomed before and up to two weeks following the Board meeting (by close of business Wednesday, April 9, 2003). All statements will become a part of the official record of the National Agricultural Research, Extension, Education, and Economics Advisory Board and will be kept on file for public review in the Research, Extension, Education, and Economics Advisory Board Office.

The findings of this Advisory Board Meeting and two Focus Sessions will be based on input from speakers, other stakeholders, the general public, and Board discussions.

The consolidated meeting agenda is as follows:

Location: The Phoenix Park Hotel, Phoenix Park Ballroom.

March 24—8:30 a.m. to 9:40 a.m.—Welcome Remarks. 9:10 a.m. to 9:40 a.m.—ARS Update on National Peer Review Process of Intramural Research Programs.

March 24—10 a.m. to 6 p.m.—General Meeting and Focus Sessions I & II on Board's Previous Advice to the Secretary, and REE Relevance and Adequacy of Funding Review.

March 24—12 (noon) Working lunch w/congressional staff (to be confirmed).

March 24—1:30 p.m. to 6 p.m.—Special Focus Session on REE Relevance and Adequacy of Funding.

March 24—7 p.m. to 9 p.m.—Working Reception w/Guest Speaker (Location: The Phoenix Park Hotel).

March 25—8:30 a.m. to 6 p.m.—Focus Session on the Relevance and Adequacy Funding Review (breakout groups in the morning).

March 26—8 a.m. to 11:30 a.m.—National Agricultural Statistics Service (NASS) Program (Location: NASS, USDA, 1400 Independence Avenue, NW., South Bldg., 5th Floor, 4th Wing, Washington, DC 20250.

Done at Washington, DC, this 13th day of March, 2003.
Joseph J. Jen,
Under Secretary, Research, Education, and Economics.

[FR Doc. 03-6664 Filed 3-18-03; 8:45 am]

BILLING CODE 3410-22-P